DEPARTMENT OF EDUCATION

Office of Vocational and Adult Education; Overview Information; Smaller Learning Communities—Special Competition for Supplemental Reading Program Research Evaluation; Notice Inviting Applications for New Awards for Fiscal Year (FY) 2004

Catalog of Federal Domestic Assistance (CFDA) Number: 84.215L.

DATES: Applications Available: March 30, 2005.

Deadline for Transmittal of Applications: May 16, 2005.

Deadline for Intergovernmental Review: July 13, 2005.

Eligible Applicants: Local educational agencies (LEAs), including schools funded by the Bureau of Indian Affairs (BIA schools) and educational service agencies that meet the requirements specified in the Educational Service Agencies section of the Application Requirements in the notice of final priorities, requirements, definitions and selection criteria for this competition (NFP), published elsewhere in this issue of the Federal Register, are eligible to apply on behalf of two or four large high schools that agree to all of the requirements of participation in the research evaluation. Additional eligibility requirements aware listed in the Eligibility section of the Application Requirements in the NFP, published elsewhere in this issue of the Federal Register.

Estimated Available Funds: $40,000,000.

Estimated Range of Awards: $1,250,000-$5,000,000. Additional information regarding awards and budget determinations is in the Budget Information for Determination of Award section in the Application Requirements in the NFP, published elsewhere in this issue of the Federal Register.

Estimated Number of Awards: 8-12.

Note: The Department is not bound by any estimates in this notice.

Project Period: Up to 60 months.

Full Text of Announcement

I. Funding Opportunity Description

Purpose of Program: The purpose of the Smaller Learning Communities (SLC) program is to promote academic achievement through the planning, implementation or expansion of small, safe, and successful learning environments in large high schools to help ensure that all students graduate with the knowledge and skills necessary to make successful transitions to college and careers. The purpose of this special competition is to fund, using a portion of FY 2004 SLC program funds, a national research evaluation of supplemental reading programs in a special type of SLC structure called freshman academies, and, in addition, to support a broader range of activities to create or expand SLCs in participating schools.

Priorities: This competition includes one absolute priority and one competitive preference priority. Both of these priorities are from the NFP, published elsewhere in this issue of the Federal Register.

Absolute Priority: For this special competition, Priority 1 is an absolute priority. Under 34 CFR 75.105(c)(3) we consider only applications that meet this priority.

The priority is:

Priority 1—Participation in a National Research Evaluation that Assesses the Effectiveness of Supplemental Reading Programs in Freshman Academies

To be eligible for consideration under this priority, an applicant must—

(1) Apply on behalf of two or four large high schools that are currently implementing freshman academies;

(2) Provide a detailed description of literacy classes and/or other activities implemented within the last two years that were designed to promote the reading achievement of striving ninth-grade readers (as defined in the NFP, published elsewhere in this issue of the Federal Register) at any of the schools on behalf of which the LEA has applied;

(3) Provide documentation of the LEA's and schools' willingness to participate in a large-scale national evaluation that uses scientifically based research methods. Each LEA must include in its application a letter from its superintendent and the principals of the high schools named in the application, agreeing to meet the requirements of the research design, and each LEA must include in its application a letter from its research office or research board agreeing to meet the requirements of the research design, if such approval is needed according to local policies;

(4) Agree to implement two designated supplemental reading programs for striving ninth-grade readers, one in each eligible high school, adhering strictly to the design of the reading program, with the understanding that the supplemental reading program will be either the Strategic Instruction Model or Reading Apprenticeship Academic Literacy, as assigned to each school by the evaluation contractor;

(5) Assign a language arts or social studies teacher, providing his or her name, resume, and a signed letter of interest, in each participating high school to: (a) Participate in professional development necessary to implement the supplemental reading program (which will include travel to Washington, DC, or another off-site location during the first two weeks in August of 2005); (b) teach the selected supplemental reading program to participating students for a minimum of 225 minutes per week for each week of the 2005-2006 and 2006-2007 school years; (c) complete two surveys; (d) assist with the administration of surveys and student assessments; (e) work with the LEA, school officials, MDRC, and AIR to recruit 125 or more students for the program and the larger research evaluation; (f) determine students' eligibility to participate in the research evaluation, with the guidance of the evaluation contractor; and (g) work with the LEA, school officials, MDRC, and AIR to obtain parental consent for students to participate in assessments and other data collections;

(6) Designate a substitute or replacement teacher in the event that the teacher of the supplemental reading program takes a leave of absence, resigns, or is otherwise unwilling or unable to participate; and

(7) Agree to provide, prior to the start of school years 2005-06 and 2006-07, for each participating high school, a list of at least 125 striving ninth-grade readers who are eligible to participate in the research evaluation; work with the contractor to assign by lottery 50 of those students in each participating high school to the supplemental reading program and assign the remaining students to other activities in which they would otherwise participate, such as a study hall, electives, or other activity that does not involve supplemental reading instruction; provide students selected for the supplemental reading program with a minimum of 225 minutes per week of instruction in the supplemental reading program for each week of the school year; and allow enough flexibility in the schedules of all eligible students so that students who are not initially selected by lottery to participate in the supplemental reading program may be reassigned, at random, to the program if students who were initially selected for the program transfer to another school, drop out, or otherwise discontinue their participation in supplemental reading instruction during the school year.

Competitive Preference Priority: For this special competition, Priority 2 is a competitive preference priority. Under 34 CFR 75.105(c)(2) we award 25 additional points to applications that meet this priority. These points are in addition to any points the application earns under the selection criteria.

The priority is:

Priority 2—Number of Schools

The Secretary gives priority to applications from LEAs applying on behalf of four high schools that are implementing freshman academies and that commit to participate in the research evaluation.

Application Requirements: Additional requirements for all projects funded through this competition are in the NFP, published elsewhere in this issue of the Federal Register.

These additional requirements are: Eligibility; School Report Cards; Consortium Applications and Governing Authority; Educational Service Agencies; Budget Information for Determination of Award; Student Placement within the Broader SLC Project; Performance Indicators for the Broader SLC Project; Evaluation of Broader SLC Projects; Participation in the Research Evaluation; and High-Risk Status and Other Enforcement Mechanisms.

Definitions: In addition to the definitions in the authorizing statute and 34 CFR 77.1, the definitions in the NFP, published elsewhere in this issue of the Federal Register, apply.

Program Authority: 20 U.S.C. 7249.

Applicable Regulations: (a) The Education Department General Administrative Regulations (EDGAR) in 34 CFR parts 75, 77, 79, 80, 81, 82, 84, 85, 86, 97, 98, and 99; and (b) the priorities, requirements, definitions, and selection criteria contained in the NFP, published elsewhere in this issue of the Federal Register.

Note: The regulations in part 79 apply to all applicants except federally recognized Indian tribes.

II. Award Information

Type of Award: Discretionary grants.

Estimated Available Funds: $40,000,000.

Estimated Range of Awards: $1,250,000-$5,000,000.

Additional information regarding awards and budget determinations is in the Budget Information for Determination of Award section in the Application Requirements in the NFP, published elsewhere in this issue of the Federal Register.

Estimated Number of Awards: 8-12.

Note: The Department is not bound by any estimates in this notice.

Project Period: Up to 60 months.

III. Eligibility Information

1. Eligible Applicants: LEAs, including BIA schools and educational service agencies that meet the requirements specified in the Educational Service Agencies section of the Application Requirements in the NFP, published elsewhere in this issue of the Federal Register, are eligible to apply on behalf of two or four large high schools that agree to all of the requirements of participation in the research evaluation. Additional eligibility requirements are listed in the Eligibility section of the Application Requirements in the NFP, published elsewhere in this issue of the Federal Register.

2. Cost Sharing or Matching: This competition does not involve cost sharing or matching.

IV. Application and Submission Information

1. Address to Request Application Package: Matthew Fitzpatrick, U.S. Department of Education, 400 Maryland Avenue, SW., room 11120, Potomac Center Plaza, Washington, DC 20202-7241. Telephone: (202) 245-7770. Fax: (202) 245-7170.

If you use a telecommunications device for the deaf (TDD), you may call the Federal Relay Service (FRS) at 1-800-877-8339.

You may also obtain an application package via Internet from the following address: http://www.ed.gov/programs/slcp/applicant.html.

Individuals with disabilities may obtain a copy of the application package in an alternative format (e.g., Braille, large print, audiotape, or computer diskette) by contacting the program contact person listed in this section.

2. Content and Form of Application Submission: Requirements concerning the content of an application, together with the forms you must submit, are in the application package for this competition.

Page Limit: The application narrative (Part III of the application) is where you, the applicant, address the selection criteria that reviewers use to evaluate your application. You must limit Part III to the equivalent of no more than 35 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

Our reviewers will not read any pages of your application that exceed the page limit if you apply these standards, or exceed the equivalent of the page limit if you apply other standards.

3. Submission Dates and Times: Applications Available: March 30, 2005.

Deadline for Transmittal of Applications: May 16, 2005.

Applications for grants under this competition must be submitted by mail or hand delivery. For information (including dates and times) about how to submit your application by mail or hand delivery, please refer to section IV. 6. Other Submission Requirements in this notice.

We do not consider an application that does not comply with the deadline requirements.

Deadline for Intergovernmental Review: July 13, 2005.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition must be submitted in paper format by mail or hand delivery.

a. Submission of Applications by Mail. If you submit your application by mail (through the U.S. Postal Service or a commercial carrier), you must mail the original and two copies of your application, on or before the application deadline date, to the Department at the applicable following address:

By mail through the U.S. Postal Service: U.S. Department of Education, Application Control Center, Attention: (CFDA Number 84.215L Special Competition), 400 Maryland Avenue, SW., Washington, DC 20202-4260; or

By mail through a commercial carrier: U.S. Department of Education, Application Control Center—Stop 4260, Attention: (CFDA Number 84.215L Special Competition), 7100 Old Landover Road, Landover, MD 20785-1506.

Regardless of the address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

b. Submission of Applications by Hand Delivery. If you submit your application by hand delivery, you (or a courier service) must deliver the original and two copies of your application, by hand, on or before the application deadline date, to the Department at the following address: U.S. Department of Education, Application Control Center, Attention: (CFDA Number 84.215L Special Competition), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this special competition are described in this section. The maximum score for all selection criteria is 100 points. The maximum score for each criterion or factor under that criterion is indicated in parentheses.

Need for Participation in the Supplemental Reading Program (10 Points)

In determining the need for participation in the supplemental reading program, we will consider the extent to which the applicant will—

(1) Involve schools that have the greatest need for assistance as indicated by such factors as: Student achievement scores in English or language arts; student achievement scores in other core curriculum areas; enrollment; attendance and dropout rates; incidents of violence, drug and alcohol use, and disciplinary actions; percentage of students who have limited English proficiency, come from low-income families, or are otherwise disadvantaged; or other need factors as identified by the applicant (7 points); and

(2) Address the needs it has identified in accordance with paragraph (1) through participation in the supplemental reading program activities (3 points).

Foundation for Implementation of the Supplemental Reading Program (50 Points)

In determining the foundation for implementation of the supplemental reading program, we will consider the extent to which—

(1) Administrators, teachers, and other school staff within each school support the school's proposed involvement in the supplemental reading program and have been and will continue to be involved in its planning, development, and implementation, including, particularly, those teachers who will be directly affected by the proposed project, as evidenced in part by a letter of interest from the language arts or social studies teacher who will teach the supplemental reading program (15 points);

(2) Parents, students, and other community stakeholders support the proposed implementation of the supplemental reading program and have been and will continue to be involved in its planning, development, and implementation (3 points);

(3) The proposed implementation of the supplemental reading program is consistent with, and will advance, State and local initiatives to increase student achievement and narrow gaps in achievement between all students and students who are economically disadvantaged, students from major racial and ethnic groups, students with disabilities, or students with limited English proficiency (4 points);

(4) The applicant demonstrates that it has carried out sufficient planning and preparatory activities, outreach, and consultation with teachers, administrators, and other stakeholders to enable it to participate effectively in the supplemental reading program at the beginning of the 2005-6 school year (5 points);

(5) The applicant articulates a plan for using information gathered from the evaluation of the supplemental reading program to inform decision and policymaking at the LEA and school levels (3 points); and

(6) The applicant, in its description of literacy classes and/or other activities (implemented, within the last two years, at each of the high schools on behalf of which the LEA is applying in this competition) that were designed to promote the reading achievement of striving ninth-grade readers, demonstrates that those activities will not affect the outcomes of the research evaluation, and that the ninth-grade teachers in each school have not previously received professional development in either the Strategic Instruction Model, Reading Apprentice Academic Literacy, or a similar supplemental reading program (20 points).

Quality of the Project Design for the Broader SLC Project (15 Points)

In determining the quality of the project design for the broader SLC project we will consider the extent to which—

(1) The applicant demonstrates a foundation for implementing the broader SLC project, creating or expanding SLC structures or strategies in the school environment, including demonstrating—

(A) That it has the support and involvement of administrators, teachers, and other school staff;

(B) That it has the support of parents, students, and other community stakeholders;

(C) The degree to which the proposed broader SLC project is consistent with, and will advance, State and local initiatives to increase student achievement and narrow gaps in achievement; and

(D) The degree to which the applicant has carried out sufficient planning and preparatory activities to enable it to implement the proposed broader SLC project at the beginning of the 2005-6 school year (5 points);

(2) The applicant will implement or expand strategies, new organizational structures, or other changes in practice that are likely to create an environment in which a core group of teachers and other adults within the school know the needs, interests, and aspirations of each student well, closely monitor each student's progress, and provide the academic and other support each student needs to succeed (5 points); and

(3) The applicant will provide high-quality professional development throughout the project period that advances the understanding of teachers, administrators, and other school staff of effective, research-based instructional strategies for improving the academic achievement of students, including, particularly, students with academic skills that are significantly below grade level; and provide the knowledge and skills they need to participate effectively in the development, expansion, or implementation of an SLC (5 points).

Quality of the Management Plan (15 Points)

In determining the quality of the management plan for the proposed project, we consider the following factors—

(1) The adequacy of the proposed management plan to allow the participating schools to implement effectively the research evaluation and broader SLC project on time and within budget, including clearly defined responsibilities and detailed timelines and milestones for accomplishing project tasks (3 points);

(2) The extent to which time commitments of the project director and other key personnel, including the teachers who will be responsible for providing instruction in the supplemental reading program, are appropriate and adequate to implement effectively the supplemental reading program and broader SLC project (2 points);

(3) The qualifications, including relevant training and experience, of the project director, program coordinator, and other key personnel who will be responsible for implementing the broader SLC project (3 points);

(4) The qualifications, including relevant training and years of experience, of the teachers who will be responsible for providing instruction in the supplemental reading program, as indicated by a resume and signed letter of interest (4 points); and

(5) The adequacy of resources, including the extent to which the budget is adequate, the extent to which the budget provides sufficient funds for the implementation of the supplemental reading program, and the extent to which costs are directly related to the objectives and design of the research evaluation and broader SLC activities (3 points).

Quality of the Broader SLC Project Evaluation (10 Points)

In determining the quality of the broader SLC project evaluation to be conducted on the applicant's behalf by an independent, third-party evaluator, we consider the following factors—

(1) The extent to which the methods of evaluation are thorough, feasible, and appropriate to the goals, objectives, and outcomes of the proposed broader SLC project (2 points);

(2) The extent to which the evaluation will collect and annually report accurate, valid, and reliable data for each of the required performance indicators, including student achievement data that are disaggregated for economically disadvantaged students, students from major racial and ethnic groups, students with disabilities, and students with limited English proficiency (2 points);

(3) The extent to which the evaluation will collect additional qualitative and quantitative data that will be useful in assessing the success and progress of implementation, including, at a minimum, accurate, valid, and reliable data for the additional performance indicators identified by the applicant in the application (2 points);

(4) The extent to which the methods of evaluation will provide timely and regular feedback to the LEA and the school on the success and progress of implementation and will identify areas for needed improvement (2 points); and

(5) The qualifications and relevant training and experience of the independent evaluator (2 points).

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. You must submit an annual performance report that provides the most current performance and financial expenditure information as specified by the Secretary in 34 CFR 75.118.

4. Performance Measures: We identify the specific performance indicators and annual performance objectives that applicants must identify in their applications and use to measure the progress of each school in the Performance Indicators for the Broader SLC Project section of the Application Requirements in the NFP, published elsewhere in this issue of the Federal Register.

Upon being awarded, grant recipients will be required to provide baseline data responding to each of the specific performance indicators for the three years preceding the baseline year. We will provide grant recipients with specific instructions regarding this reporting requirement. We also require grantees to include in their annual performance reports and final performance reports, which are required under the Reporting section of this notice, comparable data, if available, for the preceding three school years so that trends in performance will be more apparent.

VII. Agency Contact

FOR FURTHER INFORMATION CONTACT: Matthew Fitzpatrick, U.S. Department of Education, 400 Maryland Avenue, SW., room 11120, Potomac Center Plaza, Washington, DC 20202-7241. Telephone: (202) 245-7809 or by e-mail: matthew.fitzpatrick@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: March 25, 2005.
Susan Sclafani,
Assistant Secretary for Vocational and Adult Education.

[FR Doc. 05-6315 Filed 3-29-05; 8:45 am]

BILLING CODE 4000-01-P